DEPARTMENT OF COMMERCE

Foreign-Trade Zones Board

[B-45-2014]

Authorization of Production Activity, Foreign-Trade Subzone 158G, Southern Motion, Inc. (Upholstered Furniture), Pontotoc and Baldwyn, MS

On June 20, 2014, the Greater Mississippi Foreign-Trade Zone, Inc., grantee of FTZ 158, submitted a notification of proposed production activity to the Foreign-Trade Zones (FTZ) Board on behalf of Southern Motion, Inc., within Subzone 158G, in Pontotoc and Baldwyn, Mississippi.

The notification was processed in accordance with the regulations of the FTZ Board (15 CFR part 400), including notice in the Federal Register inviting public comment (79 FR 37281-37282, 7-1-2014). The FTZ Board has determined that no further review of the activity is warranted at this time. The production activity described in the notification is authorized, subject to the FTZ Act and the FTZ Board's regulations, including Section 400.14, and the following restrictions and conditions:

1. The annual volume of foreign micro-denier suede upholstery fabric finished with a caustic soda solution that may be admitted to the subzone under nonprivileged foreign status (19 CFR 146.42) is limited to 6.0 million square yards.

2. Southern Motion, Inc., must admit all foreign upholstery fabrics other than micro-denier suede upholstery fabrics finished with a caustic soda solution to the subzone under domestic (duty-paid) status (19 CFR 146.43).

3. Southern Motion, Inc., shall submit supplemental annual report data and information for the purpose of monitoring by the FTZ Staff.

4. The authority for Southern Motion, Inc., shall remain in effect for a period of five years from the date of approval by the FTZ Board.

Dated: October 20, 2014.
Andrew McGilvray,
Executive Secretary.

[FR Doc. 2014-25642 Filed 10-27-14; 8:45 am]

BILLING CODE 3510-DS-P